DEPARTMENT OF HEALTH AND HUMAN SERVICES

Centers for Disease Control and Prevention (CDC)

National Center on Birth Defects and Developmental Disabilities

Name: Scientific Workshop on Impact of Maternal Thyroid Disease on the Developing Fetus: Implications for Diagnosis, Treatment, and Screening.

Times and Dates: 8 a.m.-7:30 p.m., January 12, 2004. 8 a.m.-4 p.m., January 13, 2004.

Place: Renaissance Atlanta Hotel Downtown, 590 West Peachtree Street, NW., Atlanta, Georgia 30308-3586, Telephone (404) 881-6000.

Status: Open to the public, limited only by the space available.

Purpose: The purpose of the workshop is to summarize the body of scientific evidence, describe the gaps in knowledge, provide direction for future research, and offer guidance for appropriate public health action if warranted.

Matters To Be Discussed: The agenda will include an overview of the prevalence of thyroid dysfunction in reproductive-age women and factors associated with abnormal function, outcomes related to thyroid dysfunction during pregnancy, detection and treatment of thyroid dysfunction, and considerations for public health practice.

Agenda items may be subject to change as priority dictates.

FOR FURTHER INFORMATION CONTACT: Micah H. Milton, Health Scientist, National Center on Birth Defects and Developmental Disabilities, CDC, 1600 Clifton Road, NE., m/s E-87, Atlanta, Georgia 30333. Telephone 404/498-3082.

The Director, Management Analysis and Services Office, has been delegated the authority to sign Federal Register notices pertaining to announcements of meetings and other committee management activities for both CDC and the Agency for Toxic Substances and Disease Registry.

Dated: December 1, 2003.
Joseph E. Salter,
Acting Director, Management Analysis and Services Office, Centers for Disease Control and Prevention.

[FR Doc. 03-30216 Filed 12-4-03; 8:45 am]

BILLING CODE 4163-18-P